DEPARTMENT OF AGRICULTURE

Submission for OMB Review; Comment Request

July 21, 2020.

The Department of Agriculture has submitted the following information collection requirement(s) to Office of Management and Budget (OMB) for review and clearance under the Paperwork Reduction Act of 1995, Public Law 104-13. Comments are requested regarding: Whether the collection of information is necessary for the proper performance of the functions of the agency, including whether the information will have practical utility; the accuracy of the agency's estimate of burden including the validity of the methodology and assumptions used; ways to enhance the quality, utility and clarity of the information to be collected; ways to minimize the burden of the collection of information on those who are to respond, including through the use of appropriate automated, electronic, mechanical, or other technological collection techniques or other forms of information technology.

Comments regarding this information collection received by August 24, 2020 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Rural Utilities Service

Title: 7 CFR part 1744, subpart B, Lien Accommodations and Subordination Policy.

OMB Control Number: 0572-0126.

Summary of Collection: The information collected in this information collection package is received from RUS telecommunications borrowers. The policy of considering Lien Accommodations will continue to facilitate funding from non-agency sources in order to meet the growing capital needs of rural Local Exchange Carriers (LECs). Depending on the purposes for which a lien accommodation is sought, RUS will utilize the information to provide an expedited approval for borrowers that meet the financial tests described in this rule. RUS believes that borrowers that are financially sound should be afforded more flexibility with regard to financial arrangements with outside lenders for the purpose of promoting rural telecommunications. The tests are designed to ensure that the financial strength of the borrower is more than sufficient to protect the government's loan security interests; hence, the lien accommodations will not adversely affect the government's financial interests.

Need and Use of the Information: In order to facilitate supplemental financing for telecommunications services projects, RUS provides fast track lien accommodations to private lenders who propose to lend to RUS borrowers who meet certain financial strength evaluations. Depending on the purposes for which a lien accommodation is sought, RUS will use the information to provide expedited approval for borrowers that meet the financial tests. The tests are designed to ensure that the financial strength of the borrower is more than sufficient to protect the government's loan security interests; hence, the lien accommodations will not adversely affect the government's financial interests.

Description of Respondents: Business or other for-profit; Not for-profit institutions.

Number of Respondents: 1.

Frequency of Responses: Reporting: On occasion.

Total Burden Hours: 1.

Rural Utilities Service

Title: 7 CFR part 1752, Special Servicing of Telecommunication Programs Loans for Financially Distressed Borrowers.

OMB Control Number: 0572-0153.

Summary of Collection: The Rural Utilities Service (RUS or the Agency) Telecommunications Program (Program) provides loan funding to build and expand broadband and telecommunications services into unserved and underserved rural communities, along with very limited funding to support the costs to acquire equipment to provide distance learning and telemedicine service. RUS published a Final rule codifying a new servicing regulation on February 25, 2020 in the Federal Register which outlines policies for servicing actions associated with distressed borrowers from the Telecommunications Infrastructure Loan Program, Rural Broadband Program, Distance Learning and Telemedicine Program, Broadband Initiatives Program, and Rural e-Connectivity Pilot Program. The purpose of the regulation is to streamline servicing actions, improve the government's recovery on such loans, and improve customer service.

Need and Use of the Information: The information collection addresses RD's expanded authority, with the codification of the rulemaking, to address servicing actions. RD considers it imperative to use the expanded authority for servicing actions associated with the RUS Telecommunications Programs in order to: (1) Maximize risk management of loan portfolio; (2) reduce duplication of effort between federal agencies, which may expedite servicing of distressed borrowers; (3) ensure efficient recovery of debt which may mitigate negative impact on program subsidy rates; and (4) simplify the servicing process for the Agency and therefore minimize the financial burden and costs on borrowers.

The Agency provides forms and/or guidelines to assist in collection and submission of the information required to service loans. In some cases, use of Agency forms is optional and the borrower may submit the information required on other forms. The forms or related items completed by the borrower are submitted to and evaluated by the Agency. Failure to collect proper information from borrowers could result in improper determinations of servicing assistance, hinder the government's recovery of such loans as well as encumber customer service.

Description of Respondents: Business or other for-profit; Not for-profit institutions.

Number of Respondents: 5.

Frequency of Responses: Reporting: On occasion.

Total Burden Hours: 695.

Ruth Brown,
Departmental Information Collection Clearance Officer.

[FR Doc. 2020-16041 Filed 7-23-20; 8:45 am]

BILLING CODE 3410-15-P